DEPARTMENT OF EDUCATION

Submission for OMB Review; Comment Request

AGENCY: Department of Education.

ACTION: Correction notice.

SUMMARY: On March 20, 2009 the U.S. Department of Education published a comment period notice in the Federal Register (Page 11291, Column 3) for the information collection, “ Feasibility and Conduct of an Impact Evaluation of Title I Supplemental Education Services”. This notice amends the responses to 22,260 and the burden hours to 2,139. The IC Clearance Official, Regulatory Information Management Services, Office of Management, hereby issues a correction notice as required by the Paperwork Reduction Act of 1995.

Dated: March 23, 2009.
Angela C. Arrington,
IC Clearance Official, Regulatory Information Management Services, Office of Management.

[FR Doc. E9-6790 Filed 3-25-09; 8:45 am]

BILLING CODE 4000-01-P